Title 3—

The President

Proclamation 7267 of January 14, 2000

Religious Freedom Day, 2000

By the President of the United States of America

A Proclamation

On January 16, 1786, the Virginia legislature enacted a law whose impact is still felt around the world today. Authored by Thomas Jefferson and introduced by James Madison, this act affirmed religious freedom as one of the “natural rights of mankind” and pledged that none would “suffer on account of his religious opinions or beliefs.” Recognizing the fundamental importance of this right to human dignity, our founders modeled the First Amendment to our Constitution on the Virginia statute and made religious freedom and tolerance core values of our democracy. More than a century and a half later, Eleanor Roosevelt, as the Chairperson of the U.N.'s Commission on Human Rights, worked to extend that vision to peoples around the world through her contributions to the U.N.'s Universal Declaration of Human Rights.

Americans draw great strength from the free exercise of religion and from the diverse communities of faith that flourish in our Nation because of it. Our churches, mosques, synagogues, meetinghouses, and other places of worship bring us together, support our families, nourish our hearts and minds, and sustain our deepest values. Our religious beliefs give direction to our lives and provide moral guidance in the daily decisions we make.

Freedom of religion, however, still has enemies. In America in recent years, churches and synagogues have been destroyed by arson and people have been attacked because of their religious affiliation. Across the globe, many people still live in countries where the right to religious freedom is restricted or even prohibited. Some totalitarian and authoritarian regimes actively persecute those who seek to practice their religion, imprisoning, torturing, and even killing men and women because of their faith. Other governments monitor and harass religious minorities, tolerating and even encouraging hostility or acts of violence against them.

My Administration is committed to safeguarding freedom of religion at home and promoting it around the globe. Federal, State, and local law enforcement officials are working in partnership to prosecute and prevent crimes aimed at people because of their religious affiliation, and I have called on the Congress to pass the Hate Crimes Prevention Act to strengthen the Federal Government's ability to combat such crimes. On the international front, we have made issues of religious liberty a consistent and fundamental part of our public diplomacy. My Ambassador at Large for International Religious Freedom and his staff have crisscrossed the globe, from China and Uzbekistan to Laos and Russia, to advance religious freedom and to assist those who are being persecuted for their beliefs. In accordance with the International Religious Freedom Act that I signed into law in 1998, the United States recently published the first annual report on the status of religious freedom worldwide and publicly designated the most severe international violators. This report highlights the many crucial efforts of individuals and agencies in the Federal Government to advocate religious freedom abroad, from negotiating with foreign heads of state to pursuing individual cases of persecution or discrimination.

As we observe Religious Freedom Day this year, let us give thanks for the wisdom of America's founders in protecting our precious right to express our beliefs and practice our faith freely and openly. Let us resolve to be vigilant in defending that freedom and teaching tolerance in our homes, schools, communities, and workplaces. And let us continue to lead the world in assisting those who are persecuted because of their religious faith and in proclaiming the rights and dignity of every human being.

NOW, THEREFORE, I, WILLIAM J. CLINTON, President of the United States of America, by virtue of the authority vested in me by the Constitution and the laws of the United States, do hereby proclaim January 16, 2000, as Religious Freedom Day. I call upon the people of the United States to observe this day with appropriate ceremonies, activities, and programs, and I urge all Americans to reaffirm their devotion to the fundamental principles of religious freedom and tolerance.

IN WITNESS WHEREOF, I have hereunto set my hand this fourteenth day of January, in the year of our Lord two thousand, and of the Independence of the United States of America the two hundred and twenty-fourth.

wj

[FR Doc. 00-1345

Filed 1-18-00; 8:45 am]

Billing code 3195-01-P